DEPARTMENT OF EDUCATION

Applications for New Awards; Institutional Resilience and Expanded Postsecondary Opportunity Grants Program

AGENCY: Office of Postsecondary Education, Department of Education.

ACTION: Notice.

SUMMARY: The Department of Education (Department) is issuing a notice inviting applications (NIA) from eligible applicants for fiscal year (FY) 2020 for Institutional Resilience and Expanded Postsecondary Opportunity (IREPO) Grants under section 18004(a)(3) of the Higher Education Emergency Relief Fund of the Coronavirus Aid, Relief, and Economic Security Act (CARES Act or Act), Catalog of Federal Domestic Assistance (CFDA) number 84.425P. This notice relates to the approved information collection under OMB control number 1840-0848.

DATES:

Applications Available: August 21, 2020.

Deadline for Notice of Intent to Apply: September 10, 2020.

Deadline for Transmittal of Applications: October 20, 2020.

Pre-Application Information: The Department will post additional information for prospective applicants on the IREPO program website: https://www2.ed.gov/about/offices/list/ope/heerfirepo.html.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Karen Epps, U.S. Department of Education, 400 Maryland Avenue SW, 250-64, Washington, DC 20202. Telephone: (202) 453-6337. Email: Karen.Epps@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the IREPO Grants, offered under section 18004(a)(3) of the CARES Act and the Fund for the Improvement of Postsecondary Education (FIPSE), is to provide financial support to institutions of higher education (IHEs) with the greatest unmet needs related to coronavirus to enable them to resume operations, serve the needs of students, reduce disease transmission, and develop more resilient instructional delivery models, such as distance learning, to continue educating students who cannot or choose not to attend classroom-based instruction due to coronavirus.

This program contains one absolute priority. In addition, there are three competitive preference priorities that allow for up to three points to be awarded for each of two competitive priorities and up to ten points for one competitive priority, for a cumulative total of up to sixteen competitive preference points.

Background: Section 18004(a)(3) of the CARES Act directs the Secretary to allocate 2.5 percent of the $14.2 billion Higher Education Emergency Relief Fund (HEERF) funds appropriated by the Act to provide grants to institutions under part B of title VII of the Higher Education Act of 1965, as amended (HEA), for institutions that the Department has determined have the greatest unmet needs related to coronavirus. Part B of title VII of the HEA establishes the FIPSE. FIPSE grants, including grants under this program, are limited to institutions of higher education, as defined in section 101 of the HEA.

FIPSE grants are required, by statute, to support improvements in higher education through reforms, improvements, or innovations in postsecondary education programs, opportunities, and delivery models. Section 18004(a)(3) of the CARES Act provides funding specifically for the FIPSE program, and section 18004(d) of the Act directs the Secretary to give priority to IHEs that received less than $500,000 combined under the IHE formula grants authorized by section 18004(a)(1) of the CARES Act and the grants authorized by section 18004(a)(2) of the Act and that demonstrate the greatest unmet needs related to expenses associated with coronavirus.

Read together, section 18004(a)(3) and (d) of the CARES Act gives the Department discretion to determine which public and not-for-profit IHEs that are eligible for FIPSE grants should receive section 18004(a)(3) IREPO grants. Given the statutory directive to the Department to provide priority to institutions that received less than $500,000 from the other HEERF grants, the Department's general understanding that all IHEs have been significantly impacted by the coronavirus national emergency, and to facilitate the expedient delivery of emergency funds to IHEs, the Department, in its discretion, decided to provide section 18004(a)(3) grant awards to all eligible IHEs (public and not-for-profit institutions) that had received less than $500,000 collectively from the other HEERF grants, in amounts that would mean that each such IHE would receive $500,000 total from all its HEERF grants. The Department has already announced a first round of allocations under section 18004(a)(3) specifically for institutions that received less than $500,000 combined under the grants authorized by section 18004(a)(1) and (a)(2). Section 18004(a)(3) allows for a broad range of uses for IREPO grants, by stating that they may be used “to defray expenses (including lost revenue, reimbursement for expenses already incurred, technology costs associated with a transition to distance education, faculty and staff trainings, payroll) incurred by IHEs and for grants to students for any component of the student's cost of attendance (as defined under section 472 of the Higher Education Act), including food, housing, course materials, technology, health care, and child care.”

To disburse the remainder of the $348.8 million set aside for section 18004(a)(3) awards, the Department believes it should run a grant competition that complies with the requirements of the FIPSE grant program, in that the use of these funds will result in improvements in postsecondary education and opportunity, and that complies with the requirements of the CARES Act in giving priority to institutions with the greatest unmet needs related to coronavirus. Section 18004(a)(3) does not define the term “greatest unmet needs related to coronavirus.” While section 18004(a)(3) allows funds to be used to “defray expenses” and for “grants to students,” given that Congress chose FIPSE as the program through which these grants would be issued, expenditures under this program may be used to defray expenses associated with coronavirus, but must also result in improvements in postsecondary education. As a result, the Department believes it is reasonable to establish priorities, selection criteria, definitions, and other requirements for the IREPO Grant Program competition that would serve the IHEs with the greatest unmet coronavirus-related needs and support the purpose of improving postsecondary education in response to coronavirus-related challenges.

For the purpose of this program, we define institutions with the greatest unmet needs related to coronavirus as those that—

(1) Had a student population enrolled at the beginning of the term that included March 13, 2020, or, if that date occurred during a break between terms, at the beginning of the term immediately prior to the break which included March 13, 2020, in which more than 30 percent of full-time students received a Pell Grant; and/or

(2) Were underserved by other CARES Act programs either because—

(a) The institution did not receive a loan under the Paycheck Protection Program established by the CARES Act; and/or

(b) The institution serves large numbers of part-time students and, as such, received a reduced per-student allocation under section 18004(a)(1) of the CARES Act relative to institutions of the same or similar total enrollment that serve mostly full-time students; and

(c) Had other unmet needs due to the novel coronavirus, as described by the institution in its application.

The Department will provide grants to individual eligible institutions or consortia of two or more eligible institutions.

Starting in March 2020, the novel coronavirus forced nearly all the Nation's secondary and postsecondary institutions to expand their use of, or transition fully to, remote learning. While some IHEs already had a significant online presence prior to the COVID-19 national emergency, others had little experience in delivering distance learning. For those institutions, the move to distance learning represented an abrupt and costly shift to a new instructional model that may have required the institution to purchase or lease equipment; develop or procure a learning management system; develop or procure distance learning content; train faculty and staff to engage in instruction and student support using technology; provide equipment; and pay internet access fees on behalf of students.

In addition, the shift to distance learning left many campuses with empty campus facilities, required them to refund portions of student tuition and fees, and reduced their revenue streams from ancillary programs and services. The Department is generally aware that there is a concern that student enrollments will continue to decline as a result of COVID-19 related disruptions among IHEs.1 2 Therefore, new efforts are required to help institutions become more resilient in the face of continuing COVID-19 or other similar interruptions and to develop more cost-effective models of operation to make higher education more affordable. This program seeks to support those efforts for institutions that have the highest unmet needs related to coronavirus.

¹ https://www.forbes.com/sites/richardvedder/2020/04/07/500-1000-colleges-to-disappear-survival-of-the-fittest/#a0d019411a1.

² https://www.mckinsey.com/industries/social-sector/our-insights/covid-19-and-us-higher-education-enrollment-preparing-leaders-for-fall#.

In the case of secondary schools, few had experience in providing instruction through distance learning, and many schools either ceased providing instruction to students for several weeks, ended the school year early, or transitioned to distance learning but reduced learning expectations and rigor in an effort to accommodate their lack of experience in providing distance education. Unfortunately, this means that even more students are likely to graduate from high school underprepared for the demands of postsecondary education, thereby reducing the rates at which they enter, persist through, and complete postsecondary education, including career and technical education.

Research shows that students who enter college having participated in concurrent enrollment programs are more likely to complete high school, enroll directly in four-year institutions, persist in postsecondary education, and accumulate more college credit, and these students are less likely to need developmental education as matriculated undergraduate students.³ Therefore, the Department sees an opportunity to address this unmet need by encouraging IHEs to expand dual enrollment opportunities, thus compensating for deficiencies of the Nation's K-12 system in serving students through distance learning during the national emergency, and increasing student readiness for, and success in pursuing, postsecondary education. Such efforts will also help stabilize enrollments at participating IHEs. For this reason, one of the competitive preference priorities for this program is the development or expansion of high-quality concurrent or dual enrollment programs, including career and technical education programs, for high school students who can earn college credits while earning their high school diploma.

³ https://ccrc.tc.columbia.edu/media/k2/attachments/broadening-benefits-dual-enrollment-rp.pdf.

In addition, the Department recognizes the stabilizing force the Historically Black Colleges and Universities (HBCUs), minority serving institutions (MSIs), and other institutions that are eligible to participate in title III or title V programs have in their communities. As such, institutions that are eligible to participate in title III or title V programs, and that are either located in a rural community or Opportunity Zone, or serve high school students through dual enrollment who live in or attend high school in a rural community or Opportunity Zone, including home schooled students, are given a competitive preference.

Applicants are encouraged to develop innovative solutions that expand remote learning opportunities, including for dual enrollment students. The proposed project design should be supported by evidence that meets the standard of demonstrates a rationale (as defined in this notice). Applications may provide a framework that identifies key components on how the proposed strategy, program, or activity is informed by research or by the positive outcomes of earlier efforts that are similar to or serve as the foundation for the proposed project.⁴ These positive outcomes must suggest that the proposed activity is likely to improve relevant outcomes (as defined in this notice). We encourage evidence that demonstrates a rationale for the proposed activity to ensure that some preliminary work has been done to demonstrate the merit of the proposal, while at the same time inviting the broadest possible range of innovative solutions that may not yet have been tested at scale or evaluated through experimental or quasi-experimental design.

⁴ This type of action can also be described as a logic model, as defined by 34 CFR 77.1.

Priorities: This notice contains one absolute priority and three competitive preference priorities. We are establishing these priorities for the FY 2020 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this absolute priority.

Expanding Opportunity and Building Institutional Resilience.

Projects that will provide financial support to IHEs with the greatest unmet needs related to coronavirus to enable them to resume operations, serve the needs of students, reduce disease transmission, and/or implement safe and effective instructional delivery models, that will enable safe in-person learning and expand remote learning opportunities when necessary.

Competitive Preference Priorities: These priorities are competitive preference priorities. Under 34 CFR 75.105(c)(2)(i), we award up to an additional sixteen points to an application, depending on how well the application meets these priorities.

These priorities are:

Competitive Preference Priority 1—Developing Resilient Instructional Delivery Models. (0-3 points)

Projects that propose to use grant funds to expand the institution's capacity to develop or expand instructional delivery models, such as remote learning opportunities, to students who cannot or choose not to attend classroom-based instruction both during and after the COVID-19 national emergency. Under section 741(a)(3) of the HEA, the Secretary is authorized to make grants to improve postsecondary education through the establishment and continuation of institutions, programs, consortia, collaborations, and other joint efforts that utilize distance education and technological advancements to educate and train postsecondary students (including health professionals serving medically underserved populations). Under section 741(a)(5) of the HEA, the Secretary is authorized to make grants to improve postsecondary education through the design and introduction of cost-effective methods of instruction and operation. Consistent with these statutory goals, this competitive preference priority addresses both an institution's need to respond to disruptions in instruction related to coronavirus, and the FIPSE goals of introducing or expanding the use of technology, and potentially reducing the cost of instructional delivery using such mechanisms.

Competitive Preference Priority 2--Providing Dual Enrollment Opportunities to Students Who Live or Attend School in a Rural Community or Opportunity Zone. (0-10 points)

Projects that provide high-quality postsecondary dual enrollment opportunities, which may include career and technical education programs, to high school students who live in or attend high school (including students who are homeschooled) in rural communities or Opportunity Zones. For purposes of this competition, a community is “rural” if the community meets the qualifications for rural applicants established in section 114(e)(5)(A) of the Carl D. Perkins Career and Technical Education Act of 2006, as amended by the Strengthening Career and Technical Education for the 21st Century Act, and the applicant certifies that it meets those qualifications in its application. To receive points for proposing to serve students who live in or attend high school in an Opportunity Zone, applicants must provide the census tract number(s) of the relevant Qualified Opportunity Zone, as designated by the Secretary of the Treasury under section 1400Z-1 of the Internal Revenue Code. This competitive preference priority aligns with section 741(a)(6) of the HEA, which authorizes the Secretary to make grants to support the introduction of institutional reforms designed to expand individual opportunities for entering and reentering postsecondary institutions and pursuing programs of postsecondary study tailored to individual needs.

Competitive Preference Priority 3--Title III and Title V Participating Institutions. (0-3 points)

Projects that—

(a) Are led by an institution that is eligible to receive assistance under title III or under title V of the HEA (3 points);

(b) Include as a consortium partner more than one such institution (2 points); or

(c) Include as a consortium partner one such institution (1 point).

Definitions: The definitions of “baseline,” “demonstrates a rationale,” “performance measure,” “performance target,” “project component,” and “relevant outcome” are from 34 CFR 77.1. The definition of “institution of higher education” is from section 101 of the HEA. We are establishing the definition of “distance education,” for the FY 2020 grant competition and any subsequent year in which we make awards from the list of unfunded applications from this competition, in accordance with section 437(d)(1) of GEPA, 20 U.S.C. 1232(d)(1).

Baseline means the starting point from which performance is measured and targets are set.

Distance education means—

(1) Education that uses one or more of the technologies listed in paragraphs (2)(i) through (iv) of this definition to deliver instruction to students who are separated from the instructor or instructors and to support regular and substantive interaction between the students and the instructor or instructors, either synchronously or asynchronously.

(2) The technologies that may be used to offer distance education include—

(i) The internet;

(ii) One-way and two-way transmissions through open broadcast, closed circuit, cable, microwave, broadband lines, fiber optics, satellite, or wireless communications devices;

(iii) Audio conference; or

(iv) Other media used in a course in conjunction with any of the technologies listed in paragraph (2)(i) through (iii) of this definition.

(3) For purposes of this definition, an instructor is an individual responsible for delivering course content and who meets the qualifications for instruction established by an institution's accrediting agency.

(4) For purposes of this definition, substantive interaction is engaging students in teaching, learning, and assessment, consistent with the content under discussion, and also includes at least two of the following—

(i) Providing direct instruction;

(ii) Assessing or providing feedback on a student's coursework;

(iii) Providing information or responding to questions about the content of a course or competency;

(iv) Facilitating a group discussion regarding the content of a course or competency; or

(v) Other instructional activities approved by the institution's or program's accrediting agency.

(5) An institution ensures regular interaction between a student and an instructor or instructors by, prior to the student's completion of a course or competency—

(i) Providing the opportunity for substantive interactions with the student on a predictable and regular basis commensurate with the length of time and the amount of content in the course or competency; and

(ii) Monitoring the student's academic engagement and success and ensuring that an instructor is responsible for promptly and proactively engaging in substantive interaction with the student when needed on the basis of such monitoring, or upon request by the student.

Institution of higher education (IHE) means—

(a) An educational institution in any State that—

(1) Admits as regular students only persons having a certificate of graduation from a school providing secondary education, or the recognized equivalent of such a certificate, or persons who meet the requirements of section 484(d) of the HEA;

(2) Is legally authorized within such State to provide a program of education beyond secondary education;

(3) Provides an educational program for which the institution awards a bachelor's degree or provides not less than a 2-year program that is acceptable for full credit toward such a degree, or awards a degree that is acceptable for admission to a graduate or professional degree program, subject to review and approval by the Secretary;

(4) Is a public or other nonprofit institution; and

(5) Is accredited by a nationally recognized accrediting agency or association or, if not so accredited, is an institution that has been granted preaccreditation status by such an agency or association that has been recognized by the Secretary for the granting of pre-accreditation status, and the Secretary has determined that there is satisfactory assurance that the institution will meet the accreditation standards of such an agency or association within a reasonable time.

(b) The term also includes:

(1) Any school that provides not less than a 1-year program of training to prepare students for gainful employment in a recognized occupation and that meets the provisions of paragraphs (1), (2), (4), and (5) of paragraph (a) of this definition; and

(2) A public or nonprofit private educational institution in any State that, in lieu of the requirement in paragraph (a)(1) of this definition, admits as regular students individuals—

(A) Who are beyond the age of compulsory school attendance in the State in which the institution is located; or

(B) Who will be dually or concurrently enrolled in the institution and a secondary school.

Performance measure means any quantitative indicator, statistic, or metric used to gauge program or project performance.

Performance target means a level of performance that an applicant would seek to meet during the course of a project or as a result of a project.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

Application Requirements: The following application requirements are established for the FY 2020 grant competition and any subsequent year in which we make awards from the list of unfunded applications from this competition, in accordance with section 437(d)(1) of GEPA, 20 U.S.C. 1232(d)(1). Applicants must—

(1) Provide information about the number and percentage of the institution's students (or the number and percentage of students at each institution in a consortium) who were enrolled in title IV eligible programs during the term immediately prior to the term or scheduled break between terms in which March 13, 2020 occurred and were eligible to receive a Pell grant;

(2) Were underserved by other CARES Act programs either because—

(a) The institution did not receive a loan under the Paycheck Protection Program authorized by the CARES Act; and/or

(b) The institution serves large numbers of part-time students and, as such, received a reduced per-student allocation under section 18004(a)(1) of the CARES Act relative to institutions of the same or similar size (meaning total enrollments) that serve mostly full-time students; and

(c) Had other unmet needs relative to the novel coronavirus, as described by the institution in its application.

(3) Include a description of the institution's (or consortium of institutions') unmet needs related to the coronavirus not captured under (2);

(4) Include a timeline for implementing key elements of the applicant's proposed project under the absolute priority, as well as metrics by which the institution will measure its success in implementing the project and improving student outcomes; and

(5) Assure that the applicant will provide information to the Secretary, as requested, for evaluations that the Secretary may carry out.

Waiver of Proposed Rulemaking: Under the Administrative Procedure Act (5 U.S.C. 553), the Department generally offers interested parties the opportunity to comment on proposed priorities, selection criteria, definitions, and other requirements. Section 437(d)(1) of GEPA, however, allows the Secretary to exempt from rulemaking requirements regulations governing the first grant competition under a new or substantially revised program authority. This is the first grant competition for this program under section 18004(a)(3) of the CARES Act, and therefore qualifies for this exemption. In order to ensure timely grant awards, the Secretary has decided to forgo public comment on the priorities, requirements, definitions, and selection criteria under section 437(d)(1) of GEPA.

Program Authority: Section 18004(a)(3) of Division B of the CARES Act, Public Law 116-36 (enacted March 27, 2020).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $28,000,000. These estimated available funds are the amount available for approximately 19 grants under the FY 2020 CARES Act. The Department will determine the number of awards to be made under the absolute priority based on the quality of applications received, and consistent with the selection criteria and competitive preference priorities. It will also determine the size of an award made to an eligible applicant based on a review of the eligible applicant's budget.

Estimated Range of Awards: $1,000,000-$3,000,000.

Estimated Average Size of Awards: $1,500,000.

Estimated Number of Awards: 19.

Note: The Department is not bound by any estimates in this notice.

Project Period: Up to 24 months.

III. Eligibility Information

1. Eligible Applicants: The eligible applicant is an IHE as defined in section 101 of the HEA, or a consortium of such IHEs.

2. Cost Sharing or Matching: This program does not require cost sharing or matching.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This program is subject to Executive Order 12372 and the regulations in 34 CFR part 79. However, under 34 CFR 79.8(a), we waive intergovernmental review in order to make timely awards.

3. Funding Restrictions: We reference regulations outlining funding restrictions in the Applicable Regulations section of this notice.

Under section 741(d) of the HEA, no funds made available under this part may be used to provide direct financial assistance in the form of grants or scholarships to students who do not meet the requirements of section 484(a) of the HEA. However, nothing in that section prevents a student who does not meet the requirements of section 484(a) from participating in programs funded under this part.

4. Recommended Page Limit: The application narrative (Part III of the application) is where you, the applicant, address the selection criteria that reviewers use to evaluate your application. We recommend that you (1) limit the application narrative to no more than 25 pages and (2) use the following standards:

• A “page” is 8.5” x 11”, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the letters of support, or the appendices. However, the recommended page limit does apply to all of the application narrative.

5. Notice of Intent to Apply: We will be able to develop a more efficient process for reviewing grant applications if we know the approximate number of applicants that intend to apply for funding under this competition. Therefore, the Secretary strongly encourages each potential applicant to notify us of the applicant's intent to submit an application by sending an email to Karen.Epps@ed.gov with Intent to Apply in the subject line. Applicants that do not send a notice of intent to apply may still apply for funding.

V. Application Review Information

1. Selection Criteria: The selection criteria for this competition are from 34 CFR 75.210 or are established for the FY 2020 grant competition and any subsequent year in which we make awards from the list of unfunded applications from this competition, in accordance with section 437(d)(1) of GEPA, 20 U.S.C. 1232(d)(1). The points assigned to each criterion are indicated in the parentheses next to the criterion. An applicant may earn up to a total of 95 points based on the selection criteria for the application.

A. Greatest Unmet Needs. (up to 30 points)

In determining the institutions that have the greatest unmet needs related to the coronavirus, the Secretary considers the extent to which the institution:

(1) Serves a population of students in which more than 30 percent of its undergraduate students received a Pell Grant.

(a) 30 percent to 40 percent (7 points).

(b) 41 percent to 50 percent (8 points).

(c) 51 percent to 60 percent (9 points).

(d) Greater than 60 percent (10 points).

(2) Did not receive a loan under the Paycheck Protection Program loan authorized by the CARES Act. (5 points)

(3) Serves a student population that includes large percentages of part-time students, thus resulting in a smaller allocation for the institution under section 18004(a)(1) of the CARES Act. The impact of the percentage of part-time student enrollment will be evaluated as follows:

(a) 20 to 30 percent of students in the institution's most recent IPEDS report were enrolled part-time or less (6 points).

(b) 31 to 40 percent of students in the institution's most recent IPEDS report were enrolled part-time or less (7 points).

(c) 41 to 50 percent of students in the institution's most recent IPEDS report were enrolled part-time or less (8 points).

(d) 51 to 60 percent of students in the institution's most recent IPEDS report were enrolled part-time or less (9 points).

(e) 60 percent or more of students in the institution's most recent IPEDS report were enrolled part-time or less (10 points).

(4) Provides additional information to demonstrate that the institution has significant unmet needs related to the coronavirus for reasons other than those outlined in factors (A)(1) to (3) above (up to 5 points).

(GEPA Waiver)

B. Quality of the Project Services and Project Design. (up to 40 points)

In determining the quality of the project services and the quality of the design of the proposed project, the Secretary considers the quality and sufficiency of strategies for ensuring equal access and treatment for eligible project participants who are members of groups that have traditionally been underrepresented based on race, color, national origin, gender, age, or disability. (up to 5 points) (34 CFR 75.210)

In addition, the Secretary considers—

(1) The extent to which the proposed project is an exceptional approach to the absolute priority and includes a detailed project plan for addressing the absolute priority. (up to 10 points) (GEPA Waiver)

(2) The extent to which specific gaps or weaknesses in services, infrastructure, or opportunities have been identified and will be addressed by the proposed project, including the nature and magnitude of those gaps or weaknesses. (up to 10 points) (34 CFR 75.210)

(3) The likelihood that the proposed activities will enable the institution to become more resilient to ongoing coronavirus impacts and future challenges and to reduce the cost of higher education for students and families served. (up to 10 points) (GEPA Waiver)

(4) The extent to which the services to be provided by the proposed project reflect up-to-date knowledge from research and effective practice. (up to 5 points) (34 CFR 75.210)

C. Quality of the Management Plan and Adequacy of Resources. (up to 25 points)

The Secretary considers the quality of the management plan and adequacy of resources for the proposed project.

In determining the quality of the management plan and adequacy of resources for the proposed project, the Secretary considers—

(1) The adequacy of the management plan to achieve the objectives of the proposed project on time and within budget, including clearly defined responsibilities, timelines, and milestones for accomplishing project tasks. (up to 5 points) (34 CFR 75.210)

(2) The extent to which the budget is adequate to support the proposed project. (up to 5 points) (34 CFR 75.210)

(3) The extent to which the costs are reasonable in relation to the objectives, design, and potential significance of the proposed project. (up to 5 points) (34 CFR 75.210)

(4) The extent to which the costs are reasonable in relation to the number of persons to be served and to the anticipated results and benefits. (up to 10 points) (34 CFR 75.210)

2. Proposed Use of Funds: Applicants must describe the activities that will be supported with grant funds, consistent with allowable uses of funds under this program and the goals of the absolute priority.

3. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria and competitive preference priorities provided in this notice.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) In addition to annual performance reporting, a grantee must comply with the monthly reporting requirements of the Federal Funding Accountability and Transparency Act of 2006 (FFATA), which will serve to discharge a grantee's quarterly reporting requirements under section 15011 of the CARES Act.

(c) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(d) Under 34 CFR 75.250(b), the Secretary may provide a grantee with additional funding for data collection analysis and reporting. In this case the Secretary establishes a data collection period.

5. Performance Measures: We have established the following performance measures for the IREPO Grants program:

(1) The number of online classes offered by the institution prior to the novel coronavirus, and the number offered during the project period;

(2) The number of students enrolled in online classes prior to the novel coronavirus, and the number enrolled in online classes during the project period;

(3) Average annual cost of tuition and fees paid by all students during the 2019-2020 financial aid award year, and the average annual cost of tuition and fees paid by all students during the project period.

(4) Average annual Federal student loan size among students and parents who took title IV loans during the 2019-2020 financial aid award year and during the project period.

(5) Total enrollment at the institution at the beginning of the term in which the novel coronavirus national emergency was declared, or if that declaration took place during a break between terms, the enrollment at the institution at the beginning of the term prior to the break during which the national emergency was declared; and total enrollment during each term during the project period.

(6) For projects that include dual enrollment opportunities for students:

(a) The number of dual enrollment students served by the institution or consortium of institutions during the 2019-2020 award year, and the number of dual enrollment students served by the institution or consortium during the project period (disaggregated by gender, race, and whether or not they lived in or were educated in a rural community or Opportunity Zone);

(b) The total number of dual enrollment classes completed by students served by the project; the average number of classes completed by students served by the project; and the average number of college credits earned by those students as a result of this project; and

(c) The cost per student of each successfully completed dual enrollment class supported by these grant funds, including costs of instruction and costs of ancillary or support services (and any differences in cost between dual enrollment classes provided to students at their high school versus those provided to students by the grantee IHE).

In addition, applicants must propose project-specific performance measures and performance targets consistent with the objectives of the proposed project.

Applicants must provide the following information as directed under 34 CFR 75.110(b) and (c):

(a) Performance Measures. How each proposed performance measure would accurately measure the performance of the project and how the proposed performance measures would be consistent with the performance measures established for the program funding the competition.

(b) Baseline Data.

(i) Why each proposed baseline is valid; or

(ii) If the applicant has determined that there are no established baseline data for a particular performance measure, an explanation of why there is no established baseline and of how and when, during the project period, the applicant would establish a valid baseline for the performance measure.

(c) Performance Targets. Why each proposed performance target is ambitious yet achievable compared to the baseline for the performance measure and when, during the project period, the applicant would meet the performance target(s).

(d) Data Collection and Reporting.

(i) The data collection and reporting methods the applicant would use and why those methods are likely to yield reliable, valid, and meaningful performance data; and

(ii) The applicant's capacity to collect and report reliable, valid, and meaningful performance data, as evidenced by high-quality data collection, analysis, and reporting in other projects or research.

All grantees must submit an annual performance report with information that is responsive to these performance measures.

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Robert L. King,
Assistant Secretary for the Office of Postsecondary Education.

[FR Doc. 2020-18531 Filed 8-20-20; 8:45 am]

BILLING CODE 4000-01-P